INTERNATIONAL TRADE COMMISSION

[Investigation No. 337-TA-802]

Certain Light-Emitting Diodes and Products Containing Same Determination Not To Review an Initial Determination

AGENCY: U.S. International Trade Commission.

ACTION: Notice.

SUMMARY: Notice is hereby given that the U.S. International Trade Commission has determined not to review an initial determination (“ID”) (Order No. 5) granting complainants' unopposed motion to amend the complaint and notice of investigation.

FOR FURTHER INFORMATION CONTACT: James A. Worth, Office of the General Counsel, U.S. International Trade Commission, 500 E Street, SW., Washington, DC 20436, telephone: (202) 205-3065. Copies of non-confidential documents filed in connection with this investigation are or will be available for inspection during official business hours (8:45 a.m. to 5:15 p.m.) in the Office of the Secretary, U.S. International Trade Commission, 500 E Street, SW., Washington, DC 20436, telephone: (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: This investigation was instituted on August 31, 2011, based on a complaint filed with the U.S. International Trade Commission on July 27, 2011, under section 337 of the Tariff Act of 1930, as amended, 19 U.S.C. 1337, on behalf of LG Electronics, Inc. of Seoul, Korea and LG Innotek Co., Ltd. of Seoul, Korea (collectively, “LG”). 76 FR 54254 (August 31, 2011). The complaint alleged violations of section 337 based upon the importation into the United States, the sale for importation, and the sale within the United States after importation of certain light emitting diodes and products containing same by reason of infringement of certain claims of U.S. Patent Nos. 7,928,465; 7,956,364; 6,841,802; 7,649,210; 7,884,388; 7,821,024; 7,868,348; and 7,768,025. The complaint named as respondents OSRAM GmbH of Munich, Germany; OSRAM Sylvania Inc. of Danvers, Massachusetts; and OSRAM Opto Semiconductors GmbH of Regensburg, Germany (collectively, “OSRAM”).

On September 9, 2011, LG filed an unopposed motion for leave to amend the complaint and notice of investigation and LG and OSRAM filed a joint motion for an extension of time to respond to the complaint and notice of investigation. Specifically, LG requested leave (a) To correct the name of OSRAM GmbH, which recently changed its name to OSRAM AG; (b) to add as respondents Hella KgaA Hueck & Co. of Lippstadt, Germany, Hella Electronics Corp. of Plymouth Township, Michigan, Hella Corporate Center USA of Plymouth Township, Michigan, Hella, Inc. of Peachtree City, Georgia, (collectively, “Hella”), Automotive Lighting Reutlingen GmbH of Baden-Württemberg, Germany, Automotive Lighting LLC of Auburn Hills, Michigan, Tecnologia de Iluminacion Automotriz S.A. de C.V. of Chihuahua, Mexico (collectively, “Automotive Lighting”), and OSRAM Opto Semiconductors Inc. of Sunnyvale, California; and (c) to correct a typographical error and update the Harmonized Tariff Schedule section of the complaint. On September 28, 2011, the ALJ granted LG's motion for leave, which constituted the ID. No petitions for review were filed.

The Commission has determined not to review the subject ID.

This action is taken under the authority of section 337 of the Tariff Act of 1930, as amended (19 U.S.C. 1337), and of section 210.42(h) of the Commission's Rules of Practice and Procedure (19 CFR 210.42(h)).

Issued: October 27, 2011.
By order of the Commission.
James R. Holbein,
Secretary to the Commission.

[FR Doc. 2011-28287 Filed 11-1-11; 8:45 am]

BILLING CODE 7020-02-P